DEPARTMENT OF HOUSING AND URBAN DEVELOPMENT

[Docket No. FR-7077-N-24]

Privacy Act of 1974; System of Records

AGENCY: Office of Chief Human Capital Officer, Office of Administration HUD.

ACTION: Notice of a new system of records.

SUMMARY: Pursuant to the provisions of the Privacy Act of 1974, as amended, the Department of the Housing and Urban Development (HUD), Office of the Chief Human Capital Officer (OCHCO) is issuing a public notice of its intent to establish a Privacy Act System of Records titled, Performance Review Board Tool (PRBT). The purpose of PRBT is to implement and improve HUD's system of collecting and maintaining records for employee's performance plans reviewed by the Performance Review Board(s), i.e., rating recommendations and rating change comments and feedback in accordance with regulations and the agencies Senior Executive Service (SES) and Senior Level (SL) Performance Program Policy.

DATES: Comments will be accepted on or before December 7, 2023. This proposed action will be effective on the date following the end of the comment period unless comments are received which result in a contrary determination.

ADDRESSES: You may submit comments, identified by docket number or by one of the following methods:

Federal e-Rulemaking Portal: http://www.regulations.gov. Follow the instructions provided on that site to submit comments electronically.

Fax: 202-619-8365.

Email: www.privacy@hud.gov.

Mail: Attention: Privacy Office; LaDonne White, Chief Privacy Officer; Office of the Executive Secretariat; 451 Seventh Street SW, Room 10139; Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White; 451 Seventh Street SW, Room 10139, Washington, DC 20410-0001; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Performance Review Board Tool (PRBT) is used by HUD to effectively manage the executive performance program, ensure we are compliant with regulatory requirements, and to improve confidentiality. The Tool will improve the program and organizational requirement, provide the mechanism for compiling current and historical analytical data, and let the agency to efficiently conduct and manage the Performance Review Board's reviews and data, under the agency's Executive Performance Policies. The Tool will also allow for bi-annual mid-year performance reviews.

SYSTEM NAME AND NUMBER:

Performance Review Board Tool, HUD/OCHCO-05.

SECURITY CLASSIFICATION:

Unclassified.

SYSTEM LOCATION:

Records are maintained at the following locations: U.S. Department of Housing and Urban Development Headquarters at 451 7th Street SW, Washington, DC 20410-0001.

SYSTEM MANAGER(S):

Bessie L. Williams, Office of Executive Resource, Office of the Chief Human Capital Officer (OCHCO), Office of 451 Seventh Street SW, Room 2184, Washington, DC 20410-0001. Phone: (202) 402-3036.

AUTHORITY FOR MAINTENANCE OF THE SYSTEM:

Title 5, Code of Federal Regulations, 430.313)—Training and valuation.

PURPOSES OF THE SYSTEM:

This system lets the Office of Executive Resources efficiently manage the Performance Review Board(s) (PRB) process. Another purpose for this system is to provide a mechanism for the recording and storing of annual performance plans, reviews, rating recommendations, and feedback in accordance with HUD Senior Executive Service (SES) and Senior Level (SL) Performance Program Policy.

CATEGORIES OF INDIVIDUALS COVERED BY THE SYSTEM:

HUD Employees.

CATEGORIES OF RECORDS IN THE SYSTEM:

Employment Status, Name, Program Office, and Appointment Type.

RECORD SOURCE CATEGORIES:

Enterprise Talent Management System (InCompass).

ROUTINE USES OF RECORDS MAINTAINED IN THE SYSTEM, INCLUDING CATEGORIES OF USERS AND PURPOSES OF SUCH USES:

1. To a congressional office from the record of an individual, in response to an inquiry at the request of that individual.

2. To contractors, grantees, experts, consultants, Federal agencies, and non-Federal entities, including, but not limited to, State and local governments and other parties, and entities and their agents with whom HUD has an agreement, service agreement, or grant for the purposes of historical analysis such as: other pertinent and relative information, in support of program operations, management, performance monitoring, evaluation, and policy development, or to otherwise support the Department's mission.

3. To contractors, grantees, experts, consultants and their agents, or others performing or working under a contract, service agreement, grant, cooperative agreement, or other agreement with HUD or under contract to another agency when necessary to accomplish an agency function related to a system of records. Disclosure requirements are limited to only those data elements considered relevant to accomplishing an agency function.

4. To appropriate agencies, entities, and persons when (1) HUD suspects or has confirmed that there has been a breach of the system of records,· (2) HUD has determined that as a result of the suspected or confirmed breach there is a risk of harm to individuals, [the agency] (including its information systems, programs, and operations), the Federal Government, or national security; and (3) the disclosure made to such agencies, entities, and persons is reasonably necessary to assist in connection with HUD's efforts to respond to the suspected or confirmed breach or to prevent, minimize, or remedy such harm.

5. To another Federal agency or Federal entity, when [the agency] determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

6. To appropriate Federal, State, local, tribal, or other governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law. Records may only be disclosed upon a showing by the requester that the information is pertinent to the investigation.

7. To any component of the Department of Justice or other Federal agency conducting litigation or in proceedings before any court, adjudicative, or administrative body, and to another party before such court, adjudicative, or administrative body; when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

8. To officials of labor organizations recognized under 5 U.S.C. chapter 71 when relevant and necessary to their duties of exclusive representation concerning personnel policies, practices, and matters affecting conditions of employment.

9. To the Office of Personnel Management (OPM), the Merit Systems Protection Board (and its office of the Special Counsel), the Federal Labor Relations Authority (and its General Counsel), or the Equal Employment Opportunity Commission when requested in performance of their authorized duties of exclusive representation concerning personnel policies, practices, and matters affecting work conditions.

10. To the National Archives and Records Administration, Office of Government Information Services (OGIS), to the extent necessary to fulfill its responsibilities in 5 U.S.C. 552(h), to review administrative agency policies, procedures and compliance with the Freedom of Information Act (FOIA), and to facilitate OGIS' offering of mediation services to resolve disputes between persons making FOIA requests and administrative agencies.

11. To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

POLICIES AND PRACTICES FOR STORAGE OF RECORDS:

Electronic records.

POLICIES AND PRACTICES FOR RETRIEVAL OF RECORDS:

Full Name.

POLICIES AND PRACTICIES FOR RETENTION AND DISPOSAL OF RECORDS:

General Records Schedule (GRS) 2.2 Employee Management Records, and GRS 070 & 071, Acceptable & Unacceptable records, Disposition authority Numbers: DAA-GRS2017-0007-0008 & DAA-GRS 2017-007-009. GRS 070—Temporary, destroy no sooner than 4 years after date of appraisal, but longer retention is authorized if required for business use. GRS 071 —Temporary, destroy after employee completes 1 year of acceptable performance from the date of written advance notice of proposed removal or reduction-in-grade notice. This disposition instruction is mandatory; deviations are not allowed.

ADMINISTRATIVE, TECHNICAL, AND PHYSICAL SAFEGUARDS:

For Electronic Records: Records are maintained and stored on the SharePoint environment, which runs on HUD's network. These records can only be accessed based off the user's rights and privileges to the system. Records are on an encrypted database system. This environment complies with the security and privacy controls and procedures as described in the Federal Information Security Management Act (FISMA), National Institute of Standards and Technology (NIST) Special Publications, and Federal; Information Processing Standards (FIPS). A valid HSPD-12 ID Credential, access to HUD's Local Area Network (LAN), a valid User ID and Password and a Personalized Identification Number (PIN) is required to access the records. These records are restricted to only those people with a role in the PRB Process having a need to access them in the performance of their official duties.

For Electronic Records (cloud based): Records are secured and maintained on a cloud-based software server and operating system that resides in Federal Risk and Authorization Management Program (FedRAMP) and FISMA Moderate dedicated hosting environment. All data located in the cloud-based server is firewalled and encrypted at rest and in transit. The security mechanisms for handing data at rest and in transit are in accordance with HUD encryption standards.

RECORD ACCESS PROCEDURES:

Individuals requesting records of themselves should address written inquiries to the Department of Housing Urban and Development 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

N/A

HISTORY:

N/A.

LaDonne White,
Chief Privacy Officer, Office of Administration.

[FR Doc. 2023-24511 Filed 11-6-23; 8:45 am]

BILLING CODE 4210-67-P